DEPARTMENT OF TRANSPORTATION

Federal Aviation Administration

Notice of Submission Deadline To Amend Slot Records for LaGuardia Airport

AGENCY: Federal Aviation Administration (FAA), Department of Transportation.

ACTION: Notice of submission deadline.

SUMMARY: Under this notice, the FAA announces the submission deadline of August 5, 2015, for requests to amend slot records (adjust slot times and arrival/departure designations) at New York LaGuardia Airport (LGA).

DATES: Adjustment requests must be submitted no later than August 5, 2015.

ADDRESSES: Adjustment requests may be submitted by mail to the Slot Administration Office, AGC-200, Office of the Chief Counsel, 800 Independence Ave. SW., Washington, DC 20591 or by email to: 7-AWA-slotadmin@faa.gov.

FOR FURTHER INFORMATION CONTACT: Susan Pfingstler, System Operations Services, Air Traffic Organization, Federal Aviation Administration, 600 Independence Avenue SW., Washington, DC 20591; telephone number: 202-267-6462; email: susan.pfingstler@faa.gov.

SUPPLEMENTARY INFORMATION: Scheduled operations at LGA currently are limited by FAA Order until a final Slot Management and Transparency Rule for LaGuardia Airport, John F. Kennedy International Airport, and Newark Liberty International Airport (RIN 2120-AJ89) becomes effective but not later than October 29, 2016.¹ The LGA Order permits the leasing or trading of slots through the expiration date of the Order, but this mechanism limits a carrier's ability to permanently adjust its slot base through trades with another carrier, as is common at Ronald Reagan Washington National Airport (DCA). Additionally, the LGA Order permanently allocates slots, unlike the EWR and JFK Orders, which allocate available slots and permit slot retimings on a seasonal basis, through a transparent process generally following the International Air Transport Association (IATA) Worldwide Slot Guidelines (WSG).²

¹ Operating Limitations at New York LaGuardia Airport, 71 FR 77854 (Dec. 27, 2006) as amended by 79 FR 17222 (Mar. 27, 2014).

² See 79 FR 16857 (Mar. 26, 2014) (EWR Order); 79 FR 16854 (Mar. 26, 2014) (JFK Order).

The FAA previously announced a submission deadline for requests to amend LGA slot records (adjust slot times and arrival/departure designations) and evaluated those requests in anticipation of the Winter 2014 and Summer 2015 IATA scheduling seasons.³ The FAA has received favorable feedback from carriers and interested parties on the adjustment process and believes continuing this process at LGA could facilitate slot adjustments in a fair and transparent manner in future scheduling seasons.

³ 79 FR 44088 (Jul. 29, 2014); 79 FR 75611 (Dec. 18, 2014).

To evaluate LGA slot adjustments for the upcoming Winter 2015 IATA scheduling season, the FAA is establishing a deadline of August 5, 2015, for carriers to request retiming and changes to the arrival/departure designation of currently-held slots. Carriers should provide slot information in sufficient detail including, at a minimum, the operating carrier, slot number, the current and requested slot arrival or departure times, frequency, and effective dates. Consistent with past practice, the FAA will evaluate requests in light of the overall operational impact at LGA and whether the requests improve or have a neutral effect on operational performance. The FAA will consider both short-term adjustments and adjustments through the expiration of the LGA Order. In addition, if the FAA receives conflicting requests for retiming, the FAA will give priority to new entrants and limited incumbents, consistent with the LGA Order and FAA practice. The terms of the LGA Order prevent the FAA from allocating new slots in hours at or above the slot limit.

The FAA will evaluate requests received by August 5, 2015, and intends to respond to the requests no later than August 12, 2015. The FAA cannot guarantee that all requests to adjust slot holdings will be confirmed. Requests received after August 5, 2015, will be evaluated after timely requests in the order they are received. As permitted under paragraph A.5 of the LGA Order, carriers are encouraged to engage in slot trades, when possible, to achieve desired timings.

Issued in Washington, DC, on July 21, 2015.
Daniel Smiley,
Acting Vice President, System Operations Services.

[FR Doc. 2015-18336 Filed 7-24-15; 8:45 am]

BILLING CODE 4910-13-P